ENVIRONMENTAL PROTECTION AGENCY

40 CFR Part 63

[AD-FRL-7933-2]

RIN 2060-AM72

National Emission Standards for Hazardous Air Pollutants: Miscellaneous Coating Manufacturing

AGENCY: Environmental Protection Agency (EPA).

ACTION: Withdrawal of direct final rule.

SUMMARY: On May 13, 2005, the EPA issued direct final amendments to the national emission standards for hazardous air pollutants (NESHAP) for Miscellaneous Coating Manufacturing. The amendments were issued as a direct final rule, along with a parallel proposal to be used as the basis for final action in the event EPA received any adverse comments on the direct final amendments. Because an adverse comment was received on one provision, EPA is withdrawing the corresponding parts of the direct final rule. We stated in that direct final rule that if we received adverse comment by June 13, 2005, we would publish a timely withdrawal in the Federal Register. We will address the adverse comment in a subsequent final action based on the parallel proposal published on May 13, 2005 (70 FR 25684). As stated in the parallel proposal, we will not institute a second comment period on this action.

DATES: As of July 6, 2005, EPA withdraws the direct final rule revision for 40 CFR 63.8055(b)(4), published on May 13, 2005 (70 FR 25676). The remaining provisions published on May 13, 2005, will be effective on July 12, 2005.

ADDRESSES: EPA has established a docket for this action under Docket ID No. OAR-2003-0178. All documents in the docket are listed in the index at http://www.epa.gov/edocket. Although listed in the index, some information is not publicly available, i.e., CBI or other information whose disclosure is restricted by statute. Certain other material, such as copyrighted material, is not placed on the Internet and will be publicly available only in hard copy form. Publicly available docket materials are available either electronically in EDOCKET or in hard copy at: Air and Radiation Docket, EPA/DC, EPA West, Room B102, 1301 Constitution Ave., NW., Washington, DC. The Public Reading Room is open from 8:30 a.m. to 4:30 p.m., Monday through Friday, excluding legal holidays. The telephone number for the Public Reading Room is (202) 566-1744, and the telephone number for the Air Docket is (202) 566-1742.

FOR FURTHER INFORMATION CONTACT: Mr. Randy McDonald, Organic Chemicals Group, Emission Standards Division (Mail Code C504-04), U.S. EPA, Research Triangle Park, North Carolina 27711, telephone number (919) 541-5402, electronic mail address mcdonald.randy@epa.gov.

SUPPLEMENTARY INFORMATION: On May 13, 2005, we published a direct final rule (70 FR 25676) and a parallel proposal (70 FR 25684) amending the NESHAP for Miscellaneous Coating Manufacturing (40 CFR part 63, subpart HHHHH). The direct final rule amended the NESHAP by providing additional compliance options and clarifications. Specifically, the direct final rule amendments specified that compliance with a percent reduction emission limit may be demonstrated by measuring total organic compounds (TOC), compliance with the weight percent hazardous air pollutant (HAP) limit in coatings products may be demonstrated based on formulation data, and the cover or lid on a process vessel may be opened for material additions and sampling. The direct final rule amendments also clarified the requirements for cleaning operations, the compliance date for equipment that is added to an existing source, the conditions under which you must determine whether an emission stream is a halogenated vent stream, and the terminology used to describe the emission limits for process vessels. The direct final rule amendments also revised the definition of Group 2 transfer operations to clarify that all product loading operations are part of the miscellaneous coating manufacturing. We stated in the preamble to the direct final rule and parallel proposal that if we received adverse comments by June 13, 2005, (or if a public hearing was requested by May 23, 2005) on one or more distinct provisions of the direct final rule, we would publish a timely notice in the Federal Register specifying which provisions will become effective and which provisions will be withdrawn due to adverse comment. We subsequently received adverse comment from one commenter on the amendment to allow compliance with the weight percent HAP limit in coating products may be demonstrated based on formulation data. The commenter's claim is that if EPA does not allow the mass cutoffs of 0.1 percent for OSHA-defined carcinogens or 1 percent for other HAP used in Material Safety Data Sheets (MSDS), then the option is very limited.

Accordingly, we are withdrawing the amendment, 40 CFR 63.8055(b)(4). The amendment is withdrawn as of July 6, 2005. We will take final action on the proposed rule after considering the comment received. We also received a comment regarding chemical processes involving reactions that produce materials that may have a coating-application end use. However, the commenter referred to preamble language merely clarifying existing rule language in overlapping standards, and not new language provided by the direct final rule. We have not changed any of the rule language discussed in the clarification of overlapping standards section of the preamble. Thus, this comment is not an adverse comment on the amendments themselves, but rather an adverse comment on the definition of coating manufacturing in the original rule.

We will not institute a second comment period on this action. The provisions for which we did not receive adverse comment will become effective on July 12, 2005, as provided in the preamble to the direct final rule.

List of Subjects in 40 CFR Part 63

Environmental protection, Administrative practice and procedure, Air pollution control, Hazardous substances, Intergovernmental relations, Reporting and recordkeeping requirements.

Dated: June 29, 2005.
Jeffrey R. Holmstead,
Assistant Administrator, Air and Radiation.

[FR Doc. 05-13275 Filed 7-5-05; 8:45 am]

BILLING CODE 6560-50-P